SMALL BUSINESS ADMINISTRATION

[Declaration of Disaster #P065]

State of New York; Amendment #1

In accordance with notices received from the Department of Homeland Security—Federal Emergency Management Agency, effective October 13 and 22, 2004, the above numbered Public Assistance declaration is hereby amended to include Cattaraugus, Niagara, Orange, and Orleans Counties in the State of New York as a disaster area due to damages caused by severe storms and flooding occurring on August 29, 2004, and continuing through September 16, 2004.

All other information remains the same, i.e., the deadline for filing applications for physical damage is November 30, 2004.

(Catalog of Federal Domestic Assistance Program Nos. 59008.)

Dated: October 26, 2004.
Herbert L. Mitchell,
Associate Administrator for Disaster Assistance.

[FR Doc. 04-24370 Filed 11-1-04; 8:45 am]

BILLING CODE 8025-01-P